DEPARTMENT OF JUSTICE

Office of Justice Programs

[OJP (OJJDP) Docket No. 1653]

Meeting of the Federal Advisory Committee on Juvenile Justice

AGENCY: Office of Juvenile Justice and Delinquency Prevention, DOJ.

ACTION: Notice of Webinar Meeting.

SUMMARY: The Office of Juvenile Justice and Delinquency Prevention (OJJDP) has scheduled a webinar meeting of the Federal Advisory Committee on Juvenile Justice (FACJJ).

Dates and Location: The meeting will take place online, as a webinar, on Monday, April 28th, 2014, from 2 p.m. to 5 p.m. (ET).

FOR FURTHER INFORMATION CONTACT: Kathi Grasso, Designated Federal Official, OJJDP, Kathi.Grasso@usdoj.gov, or (202) 616-7567. [This is not a toll-free number.]

SUPPLEMENTARY INFORMATION: The Federal Advisory Committee on Juvenile Justice (FACJJ), established pursuant to section 3(2)(A) of the Federal Advisory Committee Act (5 U.S.C. App. 2), will meet to carry out its advisory functions under section 223(f)(2)(C-E) of the Juvenile Justice and Delinquency Prevention Act of 2002 (42 U.S.C. 5633(f)(2)(C-E)). The FACJJ is composed of representatives from the states and territories. FACJJ member duties include: Reviewing Federal policies regarding juvenile justice and delinquency prevention; advising the OJJDP Administrator with respect to particular functions and aspects of OJJDP; and advising the President and Congress with regard to State perspectives on the operation of OJJDP and Federal legislation pertaining to juvenile justice and delinquency prevention. More information on the FACJJ may be found at www.facjj.org.

Meeting Agenda: The proposed agenda includes: (a) Welcome and introductions of new members; (b) Report on 2013 FACJJ Report and Report Dissemination Plan; (c) Role of FACJJ/Issues for consideration; (d) Planning for October 2014 Face-to-Face Meeting and (e) miscellaneous FACJJ business matters.

To participate in or view the webinar meeting, members of the FACJJ and the public must pre-register online. Members and interested persons must link to the webinar registration portal through www.facjj.org no later than Wednesday, April 23th, 2014. Upon registration, information will be sent to you at the email address you provide to enable you to connect to the webinar. Should problems arise with webinar registration, please call Michelle Duhart-Tonge at 703-225-2103 [This is not a toll-free telephone number.] Note: Members of the public will be able to listen to and view the webinar as observers, but will not be able to actively participate during the webinar.

An on-site room (at the Office of Justice Programs, 810 7th St. NW., Washington, DC) is available for members of the public interested in viewing the webinar in person. If members of the public wish to view the webinar in person, they must notify Kathi Grasso by email message to Kathi.grasso@usdoj.gov, no later than Wednesday, April 23rd, 2014.

Please note that, with the exception of the FACJJ chair, FACJJ members will not be physically present in Washington, DC for the webinar. They will participate in the webinar from their respective home jurisdictions.

Written Comments: Interested parties may submit written comments in advance to Kathi Grasso, Designated Federal Official, by email message to Kathi.Grasso@usdoj.gov, no later than Wednesday, April 23rd, 2014. Alternatively, fax your comments to 202-307-2819 and contact Joyce Mosso Stokes at 202-305-4445 to ensure that they are received. [These are not toll-free numbers.]

Nancy Ayers,
Deputy Administrator for Operations, Office of Juvenile Justice and Delinquency Prevention.

[FR Doc. 2014-07978 Filed 4-8-14; 8:45 am]

BILLING CODE 4410-18-P